DEPARTMENT OF TRANSPORTATION

Office of the Secretary

Aviation Proceedings, Agreements Filed the Week Ending April 30, 2011

The following Agreements were filed with the Department of Transportation under the Sections 412 and 414 of the Federal Aviation Act, as amended (49 U.S.C. 1382 and 1384) and procedures governing proceedings to enforce these provisions. Answers may be filed within 21 days after the filing of the application.

Docket Number: DOT-OST-2011-0087.

Date Filed: April 27, 2011.

Parties: Members of the International Air Transport Association.

Subject: CSC/33/Meet/009/2011 dated 21 April 2011, Expedited Finally, Adopted Resolution 621, 681 and Recommended Practice 1665, Intended effective date: 1 October 2011.

Renee V. Wright,
Program Manager, Docket Operations, Federal Register Liaison.

[FR Doc. 2011-13182 Filed 5-26-11; 8:45 am]

BILLING CODE 4910-9XP